DEPARTMENT OF LABOR

Employment and Training Administration

[TA-W-72,075; TA-W-72,075D; TA-W-72,075E]

Amended Certification Regarding Eligibility To Apply for Worker Adjustment Assistance

TA-W-72,075, Assembly & Test Worldwide, Inc., Livonia, Michigan.

TA-W-72,075D, Assembly & Test Worldwide, Inc., Lake Zurich, Illinois.

TA-W-72,075E, Assembly & Test Worldwide, Inc., Shelton, Connecticut.

In accordance with Section 223 of the Trade Act of 1974, as amended (“Act”), 19 U.S.C. 2273, the Department of Labor issued a Certification of Eligibility to Apply for Worker Adjustment Assistance on January 27, 2010, applicable to workers of Assembly & Test Worldwide, Inc., Livonia, Michigan. The notice was published in the Federal Register on March 5, 2010 (75 FR 10321). At the request of a company official, the Department reviewed the certification for workers of the subject firm. The workers design, engineer, manufacture and integrate custom component assembly and test systems.

The company reports that the worker group also includes workers at the Lake Zurich, Illinois and Shelton, Connecticut locations of the subject firm that were inadvertently omitted from the Department's decision.

Accordingly, the Department is amending this certification to include workers of the Lake Zurich, Illinois and Shelton, Connecticut locations of the subject firm.

The intent of the Department's certification is to include all workers of the subject firm who were adversely affected by the shift in production of custom component assembly and test systems to Brazil, China and Germany.

The amended notice applicable to TA-W-72,075 is hereby issued as follows:

All workers of Assembly & Test Worldwide, Inc., Livonia, Michigan (TA-W-72,075); Assembly & Test Worldwide, Inc., Saginaw, Michigan (TA-W-72,075A); Assembly & Test Worldwide, Inc., Lebanon, Missouri (TA-W-72,075B); Assembly & Test Worldwide, Inc., Dayton, Ohio (TA-W-72,075C); Assembly & Test Worldwide, Lake Zurich, Illinois (TA-W-72,075D); and Assembly & Test Worldwide, Shelton, Connecticut (TA-W-72,075E), who became totally or partially separated from employment on or after August 10, 2008, through January 27, 2012, and all workers in the group threatened with total or partial separation from employment on the date of certification through two years from the date of certification, are eligible to apply for adjustment assistance under Chapter 2 of Title II of the Trade Act of 1974, as amended.

Signed at Washington, DC this 6th day of April 2010.
Michael W. Jaffe,
Certifying Officer, Division of Trade Adjustment Assistance.

[FR Doc. 2010-8892 Filed 4-16-10; 8:45 am]

BILLING CODE 4510-FN-P